DEPARTMENT OF DEFENSE

Office of the Secretary

Defense Science Board

AGENCY: Department of Defense.

ACTION: Notice of Advisory Committee meeting date change.

SUMMARY: On Friday, December 13, 2002 (67 FR 76728), the Department of Defense announced closed meetings of the Defense Science Board (DSB) Task Force on Seabasing. The meetings originally scheduled for February 25-26, 2003, have been changed to February 26-27, 2003. The meetings will be held at Strategic Analysis Inc., 3601 Wilson Boulevard, Suite 600, Arlington, VA.

Dated: February 12, 2003.
Patricia L. Toppings,
Alternate OSD Federal Register Liaison Officer, Department of Defense.

[FR Doc. 03-4071 Filed 2-19-03; 8:45 am]

BILLING CODE 5001-08-M